DEPARTMENT OF COMMERCE

National Telecommunications and Information Administration

[Docket No: 121031596-2596-01]

RIN 0660-XC003

Development of the Nationwide Interoperable Public Safety Broadband Network

AGENCY: National Telecommunications and Information Administration, U.S. Department of Commerce.

ACTION: Notice of Inquiry; Reopening of Comment Period.

SUMMARY: The National Telecommunications and Information Administration (NTIA) issued a Notice of Inquiry (NOI) on September 28, 2012, seeking public comment on two conceptual presentations made at the inaugural Board meeting of the First Responder Network Authority (FirstNet) as well as to invite input on other network design and business plan considerations. The comment deadline was November 1, 2012, at 5 p.m. Eastern Daylight Time (EDT). NTIA has received several requests to extend the comment deadline from states and first responders that were impacted by the widespread destruction caused by Hurricane Sandy. Therefore, NTIA issues this notice announcing that it is reopening the comment period and will accept comments responsive to the NOI until 5 p.m. Eastern Standard Time (EST) on Friday, November 9, 2012. Comments received after the November 1, 2012, deadline until this notice is published reopening the comment period will be accepted.

DATES: Comments must be received no later than Friday, November 9, 2012 at 5:00 p.m. EST.

ADDRESSES: Written comments may be submitted by email to firstnetnoi@ntia.doc.gov. Written comments also may be submitted by mail to: National Telecommunications and Information Administration, U.S. Department of Commerce, 1401 Constitution Avenue NW., HCHB Room 7324, Attn: FirstNet NOI, Washington, DC 20230. Please note that all material sent via the U.S. Postal Service (including “Overnight” or “Express Mail”) is subject to delivery delays of up to two weeks due to mail security procedures. Responders should include the name of the person or organization filing the comment, as well as a page number, on each page of their submissions. Paper submissions should also include a CD or DVD with an electronic version of the document, which should be labeled with the name and organizational affiliation of the filer. Do not submit Confidential Business Information or otherwise sensitive or protected information. All email messages and comments received are a part of the public record and will generally be posted without change to the NTIA Web site at http://www.ntia.doc.gov/federal-register-notice/2012/comments-nationwide-interoperable-public-safety-broadband-network-noi. All personal identifying information (e.g., name, address) voluntarily submitted by the commenter may be publicly accessible. Comments should not exceed 25 double-spaced pages.

FOR FURTHER INFORMATION CONTACT: Uzoma Onyeije, Senior Advisor for Public Safety, National Telecommunications and Information Administration, U.S. Department of Commerce, 1401 Constitution Avenue NW., Room 7324, Washington, DC 20230; telephone: (202) 482-0016; email: uonyeije@ntia.doc.gov. Please direct media inquiries to NTIA's Office of Public Affairs, (202) 482-7002.

SUPPLEMENTARY INFORMATION:

Background

The Middle Class Tax Relief and Job Creation Act of 2012 created the First Responder Network Authority (FirstNet) as an independent authority within NTIA and authorized it to take all actions necessary to ensure the building, deployment, and operation of a nationwide public safety broadband network (PSBN) based on a single, national network architecture.¹

¹ Middle Class Tax Relief and Job Creation Act of 2012, Public Law 112-96, 126 Stat. 156 (2012) (Act); 47 U.S.C. 1422(b).

The FirstNet Board held its first public meeting on September 25, 2012, during which it heard a presentation from FirstNet Board member Craig Farrill that outlined a possible framework for designing the public safety network architecture in a manner that leverages existing resources and infrastructure, as is contemplated in the Act.² Additionally, FirstNet Board Chairman Sam Ginn also discussed a general concept for developing applications designed specifically for public safety users. These conceptual presentations mark a starting point for further discussions.

² The presentation of the FNN concept is available for review on NTIA's Web site at http://www.ntia.doc.gov/files/ntia/publications/firstnet_fnn_presentation_09-25-2012_final.pdf.

On behalf of the FirstNet Board, NTIA issued a NOI requesting public comment on these two conceptual presentations relating to network architecture and applications as well as to invite input on other network design and business plan considerations. Notice of Inquiry, 77 FR 60680 (Oct. 4, 2012). The NOI set a deadline for the submission of comments on November 1, 2012. Due to the severity of the impact from Hurricane Sandy, which resulted in a two-day closure of the Federal Government and forced the closure of many other government agencies and businesses across the East Coast, NTIA has received multiple requests asking for an extension of the comments deadline. In recognition of the need for impacted states to focus their attention and resources to address the widespread destruction caused by Hurricane Sandy, NTIA announces that it is reopening the comment period and will accept comments responsive to the NOI until 5 p.m. EST on Friday, November 9, 2012. Comments received after the November 1, 2012, deadline until the publication of this notice reopening the comment period will also be accepted. This extension is warranted to ensure that FirstNet receives input on these conceptual presentations from all interested stakeholders to better inform its efforts to establish the interoperable public safety broadband network called for under the Act.

Dated: October 31, 2012.
Lawrence E. Strickling,
Assistant Secretary for Communications and Information.

[FR Doc. 2012-27031 Filed 11-5-12; 8:45 am]

BILLING CODE 3510-60-P